DEPARTMENT OF STATE

[Public Notice: 9979]

Shipping Coordinating Committee; Notice of Public Meeting

The Shipping Coordinating Committee (SHC) will conduct an open meeting at 9:00 a.m. on Wednesday, June 28, 2017, in room 6I10-01-b of the Douglas A. Munro Coast Guard Headquarters Building at St. Elizabeth's, 2703 Martin Luther King Jr. Avenue SE., Washington, DC 20593. The primary purpose of the meeting is to prepare for the seventy-first session of the International Maritime Organization's (IMO) Marine Environment Protection Committee to be held at the IMO Headquarters, United Kingdom, July 3-7, 2017.

The agenda items to be considered include:

—Adoption of the agenda

—Decisions of other bodies

—Consideration and adoption of amendments to mandatory instruments

—Harmful aquatic organisms in ballast water

—Air pollution and energy efficiency

—Further technical and operational measures for enhancing the energy efficiency of international shipping

—Reduction of GHG emissions from ships

—Identification and protection of Special Areas and PSSAs

—Pollution prevention and response (report of the fourth session of the Sub-Committee)

—Reports of other sub-committees

—Technical cooperation activities for the protection of the marine environment

—Capacity building for the implementation of new measures

—Application of the Committees' Guidelines

—Work program of the Committee and subsidiary bodies

—Election of the Chair and Vice-Chair for 2018

—Any other business

—Consideration of the report of the Committee

Members of the public may attend this meeting up to the seating capacity of the room. Upon request to the meeting coordinator, members of the public may also participate via teleconference, up to the capacity of the teleconference phone line. To access the teleconference line, participants should call (855) 475-2447 and use Participant Code: 993 678 424. To facilitate the building security process, and to request reasonable accommodation, those who plan to attend should contact the meeting coordinator, LCDR Staci Weist, by email at Eustacia.y.weist@uscg.mil, by phone at (202) 372-1376, or in writing at 2703 Martin Luther King Jr. Ave. SE., Stop 7509, Washington, DC 20593-7509 no later than June 21, 2017. Requests made after June 21, 2017 might not be able to be accommodated.

Please note that due to security considerations, two valid, government issued photo identifications must be presented to gain entrance to the Coast Guard Headquarters building. It is recommended that attendees arrive to the Headquarters building no later than 30 minutes ahead of the scheduled meeting for the security screening process. The building is accessible by taxi, public transportation, and privately owned conveyance (upon request). Parking in the vicinity of the building is extremely limited and not guaranteed. Additional information regarding this and other SHC public meetings may be found at: www.uscg.mil/imo.

Jonathan W. Burby,
Executive Secretary, Shipping Coordinating Committee, Department of State.

[FR Doc. 2017-08551 Filed 4-27-17; 8:45 am]

BILLING CODE 4710-09-P